FEDERAL COMMUNICATIONS COMMISSION

[Report No. 2430]

Petitions for Reconsideration and Clarification of Action in Rulemaking Proceeding

August 7, 2000.

Petitions for Reconsideration and Clarification have been filed in the Commission's rulemaking proceeding listed in this Public Notice and published pursuant to 47 CFR Section 1.429(e).¹ The full text of these documents are available for viewing and copying in Room CY-A257, 445 12th Street, S.W., Washington, D.C. or may be purchased from the Commission's copy contractor, ITS, Inc. (202) 857-3800. These petitions ask for reconsideration and clarification of a number of complex issues addressed in the reports and orders referenced in this Public Notice. In order to provide sufficient time for all interested parties to adequately review and address the issues raised in these petitions, we waive the filing deadlines set forth in 47 CFR Section 1.429(f) and (g) and establish the following deadlines. Oppositions to these petitions must be filed no later than September 21, 2000. Replies to oppositions must be filed no later than October 11, 2000.

¹ Although the Texas Office of Public Utility Counsel filed a Petition for Reconsideration on July 21, 2000, it subsequently withdrew this petition on July 27, 2000. See Letter from Dorothy Attwood, Chief, Common Carrier Bureau to Suzi Ray McClellan, Public Counsel dated August 4, 2000.

Subject: Sixth Report and Order in CC Docket Nos. 96-262 and 94-1, Report and Order in CC Docket No. 99-249, and Eleventh Report and Order in CC Docket No. 96-45.

Number of Petitions Filed: 3.

Federal Communications Commission.
Magalie Roman Salas,
Secretary.

[FR Doc. 00-20460 Filed 8-10-00; 8:45 am]

BILLING CODE 6712-01-M